DEPARTMENT OF ENERGY

Federal Energy Regulatory Commission

[Project Nos. 2525-051, 2546-068, 2560-047, 2522-074,and 2595-065]

Wisconsin Public Service Corporation; Notice of Telephone Conference

March 28, 2003.

a. Date of Meeting: April 11, 2003.

b. Time of Meeting: 10 a.m. to 12 p.m. (East Coast Time).

c. FERC Contact: Jean Potvin at (202) 502-8928; jean.potvin@ferc.gov.

d. Purpose of the Meeting: The Federal Energy Regulatory Commission, the Wisconsin Historical Society, Wisconsin Department of Natural Resources, and the Wisconsin Public Service Corporation intend to discuss cultural resources issues related to Wisconsin Public Service Corporation's Application to Amend Licenses to Change Project Boundaries for five hydroelectric projects (Caldron Falls, P-2525-051; Sandstone Rapids, P-2546-068; Potato Rapids, P-2560-047; Johnson Falls, P-2522-074; and High Falls, 2595-065) located on the Peshtigo River in Marinette and Oconto Counties, Wisconsin.

e. All local, state, and Federal agencies, Indian Tribes, and interested parties, are hereby invited to attend this meeting as participants. If you want to participate by teleconference, please contact Jean Potvin at the number listed above no later than April 9, 2003.

Magalie R. Salas,
Secretary.

[FR Doc. 03-8089 Filed 4-2-03; 8:45 am]

BILLING CODE 6717-01-P